DEPARTMENT OF TRANSPORTATION

Federal Aviation Administration

14 CFR Part 39

[Docket No. 2001-NM-259-AD; Amendment 39-13501; AD 2004-05-07]

RIN 2120-AA64

Airworthiness Directives; Boeing Model 767 Series Airplanes

AGENCY: Federal Aviation Administration, DOT.

ACTION: Final rule.

SUMMARY: This amendment supersedes an existing airworthiness directive (AD), applicable to certain Boeing Model 767 series airplanes, that currently requires a one-time inspection to detect abrasion damage and installation discrepancies of the wire bundles located below the P37 panel, and corrective action if necessary. For airplanes already subject to the existing AD, this amendment requires inspecting to determine whether the existing location of a certain wire support standoff is adequate, relocating the wire support standoff if necessary, installing protective sleeving over the wire bundles, and installing wire bundle support clamps if necessary. This amendment also expands the applicability of the existing AD to include additional airplanes, and require inspecting the sleeving on certain wire bundles, and accomplishing corrective action if necessary, on those airplanes. The actions specified by this AD are intended to detect and prevent abrasion damage and correct installation discrepancies of the wire bundles located below the P37 panel, which could result in arcing to structure and consequent fire or loss of function of affected systems. This action is intended to address the identified unsafe condition.

DATES: Effective April 7, 2004.

The incorporation by reference of certain publications listed in the regulations is approved by the Director of the Federal Register as of April 7, 2004.

ADDRESSES: The service information referenced in this AD may be obtained from Boeing Commercial Airplanes, P.O. Box 3707, Seattle, Washington 98124-2207. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Elias Natsiopoulos, Aerospace Engineer, Systems and Equipment Branch, ANM-130S, FAA, Seattle Aircraft Certification Office, 1601 Lind Avenue, SW., Renton, Washington 98055-4056; telephone (425) 917-6478; fax (425) 917-6590.

SUPPLEMENTARY INFORMATION: A proposal to amend part 39 of the Federal Aviation Regulations (14 CFR part 39) by superseding AD 2001-17-28 R1, amendment 39-12510 (66 FR 58924, November 26, 2001), which is applicable to certain Boeing Model 767 series airplanes, was published in the Federal Register on March 3, 2003 (68 FR 9947). For airplanes already subject to the existing AD, the action proposed to require inspecting to determine whether the existing location of a certain wire support standoff is adequate, relocating the wire support standoff if necessary, installing protective sleeving over the wire bundles, and installing wire bundle support clamps if necessary. The action also proposed to expand the applicability of the existing AD to include additional airplanes, and require inspecting the sleeving on certain wire bundles, and accomplishing corrective action if necessary, on those airplanes.

Comments

Interested persons have been afforded an opportunity to participate in the making of this amendment. Due consideration has been given to the comments received.

Credit for Actions Accomplished per Previous Service Bulletins

Three commenters request that the FAA give credit for actions accomplished in accordance with Boeing Alert Service Bulletin 767-24A0134 (for Model 767-200 and -300 series airplanes), dated March 15, 2001. They state that Revision 1 of the service bulletin specifies no more work is necessary for airplanes changed in accordance with the original issue of the service bulletin.

We agree. We have determined that completion of all the steps in the Accomplishment Instructions of Boeing Alert Service Bulletin 767-24A0134 (for Model 767-200 and -300 series airplanes) or Boeing Alert Service Bulletin 767-24A0135 (for Model 767-400ER series airplanes), both dated March 15, 2001, as applicable, is acceptable for compliance with the corresponding actions specified for Group 1 airplanes in paragraph (b) of this AD. We have added paragraph (c) to this final rule to give credit for accomplishment of previous service bulletins.

Conclusion

After careful review of the available data, including the comment noted above, we have determined that air safety and the public interest require the adoption of the rule with the change previously described. We have determined that this change will neither increase the economic burden on any operator nor increase the scope of the AD.

Changes to 14 CFR Part 39/Effect on the AD

On July 10, 2002, we issued a new version of 14 CFR part 39 (67 FR 47997, July 22, 2002), which governs the FAA's airworthiness directives system. The regulation now includes material that relates to altered products, special flight permits, and alternative methods of compliance (AMOCs). Because we have now included this material in part 39, only the office authorized to approve AMOCs is identified in each individual AD. However, for clarity and consistency in this final rule, we have retained the language of the NPRM regarding that material.

Change to Labor Rate Estimate

We have reviewed the figures we have used over the past several years to calculate AD costs to operators. To account for various inflationary costs in the airline industry, we find it necessary to increase the labor rate used in these calculations from $60 per work hour to $65 per work hour. The cost impact information, below, reflects this increase in the specified hourly labor rate.

Cost Impact

There are approximately 839 airplanes of the affected design in the worldwide fleet. We estimate that 325 airplanes of U.S. registry will be affected by this AD.

The inspection that is currently required by AD 2001-17-28 R1 takes approximately 2 work hours per airplane to accomplish, at an average labor rate of $65 per work hour. Based on these figures, the cost impact of the currently required actions on U.S. operators is estimated to be $42,250, or $130 per airplane.

For airplanes in both Groups 1 and 2 as listed in the alert service bulletins, the new actions that are required by this new AD will take approximately 2 work hours per airplane to accomplish, at an average labor rate of $65 per work hour. The cost of required parts will be negligible. Based on these figures, the cost impact of the new requirements of this AD on U.S. operators is estimated to be $42,250, or $130 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12510 (66 FR 58924, November 26, 2001), and by adding a new airworthiness directive (AD), amendment 39-13501, to read as follows:

2004-05-07 Boeing: Amendment 39-13501. Docket 2001-NM-259-AD. Supersedes AD 2001-17-28 R1, Amendment 39-12510.

Applicability: Model 767 airplanes, certificated in any category, line numbers (L/Ns) 1 through 853 inclusive.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d)(1) of this AD. The request should include an assessment of the effect of the modification, alteration, or repair on the unsafe condition addressed by this AD; and, if the unsafe condition has not been eliminated, the request should include specific proposed actions to address it.

Compliance: Required as indicated, unless accomplished previously.

To detect and prevent abrasion damage and correct installation discrepancies of the wire bundles located below the P37 panel, which could result in arcing to structure and consequent fire or loss of function of affected systems, accomplish the following:

Requirements of AD 2001-17-28 R1, Amendment 39-12510

Inspection for Damage and Installation Discrepancies

(a) For airplanes with L/Ns 1 through 815 inclusive: Within 90 days after September 13, 2001 (the effective date of AD 2001-17-28, amendment 39-12419), perform a one-time detailed inspection of the wire bundles located below the P37 panel to detect abrasion damage and wire installation discrepancies (including missing standoffs; missing, chafed, or loose cable clamps; chafed grommets; and wire bundles located beneath an insulation blanket), in accordance with Boeing Alert Service Bulletin 767-24A0134, excluding Evaluation Form, dated March 15, 2001, or Revision 1, excluding Evaluation Form, dated October 18, 2001 (for Model 767-200 and -300 series airplanes); or 767-24A0135, excluding Evaluation Form, dated March 15, 2001, or Revision 1, excluding Evaluation Form, dated October 18, 2001 (for Model 767-400ER series airplanes). If any damage or other discrepancy is found, prior to further flight, perform corrective actions in accordance with the applicable alert service bulletin. After December 11, 2001 (the effective date of AD 2001-17-28 R1, amendment 39-12510), only Revision 1 of the alert service bulletins may be used.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

New Requirements of this AD

Inspection and Corrective Actions

(b) Within 18 months after the effective date of this AD, do all actions in Work Package 2 of Boeing Alert Service Bulletin 767-24A0134 (for Model 767-200 and -300 series airplanes) or 767-24A0135 (for Model 767-400ER series airplanes), both Revision 1, both excluding Evaluation Form, both dated October 18, 2001, as applicable, in accordance with the Accomplishment Instructions of the applicable alert service bulletin. For Group 1 airplanes, the procedures in Work Package 2 include performing a detailed inspection to determine whether the location of the wire support standoff for wire bundle W298 is adequate and whether a grommet is installed and not damaged (e.g., chafed), installing a new grommet if not already installed or if the existing grommet is damaged, relocating the wire support standoff as applicable, installing protective sleeving over certain wire bundles, and installing wire bundle support clamps. When installing wire bundle support clamps, make sure that wire bundles are installed inboard/above the insulation blankets. For Group 2 airplanes, the procedures in Work Package 2 include performing a detailed inspection of the sleeving on wire bundles W298, W235, and W2130, as applicable, to determine the type of protective sleeving installed and the location of that sleeving, relocating the sleeving or replacing the sleeving with new sleeving as applicable, and installing wire bundle support clamps as applicable. When installing wire bundle support clamps, make sure that wire bundles are installed inboard/above the insulation blankets.

Credit for Actions Accomplished per Previous Service Bulletins

(c) For Group 1 airplanes, the actions accomplished before December 11, 2001, per Boeing Alert Service Bulletin 767-24A0134 (for Model 767-200 and -300 series airplanes), dated March 15, 2001; or Boeing Alert Service Bulletin 767-24A0135 (for Model 767-400ER series airplanes), dated March 15, 2001; as applicable, are acceptable for compliance with the corresponding actions required by paragraph (b) of this AD.

Alternative Methods of Compliance

(d)(1) An alternative method of compliance or adjustment of the compliance time that provides an acceptable level of safety may be used if approved by the Manager, Seattle Aircraft Certification Office (ACO), FAA. Operators shall submit their requests through an appropriate FAA Principal Maintenance Inspector, who may add comments and then send it to the Manager, Seattle ACO.

(2) Alternative methods of compliance, approved previously in accordance with AD 2001-17-28 R1, amendment 39-12510, are approved as alternative methods of compliance with the corresponding requirements of this AD.

Note 3: Information concerning the existence of approved alternative methods of compliance with this AD, if any, may be obtained from the Seattle ACO.

Special Flight Permits

(e) Special flight permits may be issued in accordance with sections 21.197 and 21.199 of the Federal Aviation Regulations (14 CFR 21.197 and 21.199) to operate the airplane to a location where the requirements of this AD can be accomplished.

Incorporation by Reference

(f) Unless otherwise specified by this AD, the actions shall be done in accordance with Boeing Alert Service Bulletin 767-24A0134, Revision 1, dated October 18, 2001 (for Model 767-200 and -300 series airplanes); and Boeing Alert Service Bulletin 767-24A0135, Revision 1, dated October 18, 2001 (for Model 767-400ER series airplanes). This incorporation by reference was approved by the Director of the Federal Register in accordance with 5 U.S.C. 552(a) and 1 CFR part 51. Copies may be obtained from Boeing Commercial Airplane Group, P.O. Box 3707, Seattle, Washington 98124-2207. Copies may be inspected at the FAA, Transport Airplane Directorate, 1601 Lind Avenue, SW., Renton, Washington; or at the Office of the Federal Register, 800 North Capitol Street, NW., suite 700, Washington, DC.

Effective Date

(g) This amendment becomes effective on April 7, 2004.

Issued in Renton, Washington, on February 20, 2004.
Kalene C. Yanamura,
Acting Manager, Transport Airplane Directorate, Aircraft Certification Service.

[FR Doc. 04-4562 Filed 3-2-04; 8:45 am]

BILLING CODE 4910-13-P